DEPARTMENT OF DEFENSE

Department of the Navy

Notice of Availability of the Record of Decision for Department of the Navy Real Estate Actions in Support of the Boardman to Hemmingway Transmission Line Project, at Naval Weapons Systems Training Facility Boardman, OR

AGENCY: Department of the Navy, DoD.

ACTION: Notice.

SUMMARY: The United States (U.S.) Department of the Navy (DoN), after participating as a cooperating agency in the development and evaluation of the U.S. Bureau of Land Management's Final Environmental Impact Statement (EIS) for the Boardman to Hemingway Transmission Line Project (B2H Project), and carefully weighing the strategic, operational, and environmental consequences of the proposed action, announces its decision to adopt the Final EIS and implement real estate actions as set out in the selected alternative, identified as the Agency Preferred Alternative in the Final EIS dated November 2016.

SUPPLEMENTARY INFORMATION: DoN real estate actions would grant a 7.1 mile by 90-foot right of way easement to the Idaho Power Company to allow for construction and operation of a portion of the B2H project on Naval Weapons Systems Training Facility (NWSTF) Boardman, Oregon in exchange for the termination of an existing land use agreement and removal of transmission infrastructure held by Bonneville Power Administration (BPA) that occupies the same right-of-way.

The Agency Preferred Alternative route exits the proposed Longhorn Substation to the south, crossing the boundary of NWSTF Boardman at the northeastern corner and parallels the eastern boundary of NWSTF Boardman along the west side of Bombing Range Road for approximately 7.1 miles. At that point, the route crosses over Bombing Range Road to the east and exits Federal property. The route will avoid the Resource Natural Area B, a Washington ground squirrel Resource Management Area, and traditional cultural properties on NWSTF Boardman.

The complete text of the Record of Decision (ROD) for the DoN's real estate action is available at: https://navfac.navy.mil/NWNEPA, along with the November 2016 Final EIS for the Boardman to Hemingway Transmission Line Project. Single copies of the ROD are available upon request by contacting: Naval Facilities Engineering Command Northwest, Attn: Jackie Queen (Environmental Planner), 3730 Charles Porter Avenue, Oak Harbor, WA 98278-5000.

Approved: September 26, 2019.
D.J. Antenucci,
Commander, Judge Advocate General's Corps, U.S. Navy, Federal Register Liaison Officer.

[FR Doc. 2019-21341 Filed 10-1-19; 8:45 am]

BILLING CODE 3810-FF-P